DEPARTMENT OF THE INTERIOR

Bureau of Land Management

[UT-046-1210-MD]

Temporary Emergency Off-Road Vehicle Limitations

AGENCY: Bureau of Land Management, Interior.

ACTION: Notice of temporary emergency off-road vehicle (ORV), also referred to as off-highway vehicle (OHV), travel limitations pursuant to regulations at 43 CFR 8341.2(a) on public lands in the Parunuweap Canyon, Orderville Canyon, and North Fork Virgin River Wilderness Study Areas (WSAs).

SUMMARY: This notice restricts motorized vehicle travel within the Parunuweap Canyon WSA, Orderville Canyon WSA, and North Fork Virgin River WSA in southwestern Utah near Kanab. An emergency travel limitation order is necessary to prevent resource impacts to soils, vegetation, wildlife habitat, and other resources caused by OHV use within the WSAs that threaten impairment to wilderness values. The travel restrictions limit OHV travel within the WSAs to only those travel routes and ways identified during the original wilderness inventory completed in 1980 and shown on the inventory maps located at the BLM Kanab Field Office. Cross-country travel within the WSAs is specifically prohibited by these travel restrictions. Maps showing the travel restrictions will be posted at key access points to the Parunuweap Canyon WSA, Orderville Canyon WSA, and North Fork Virgin River WSA and will also be available at the BLM Kanab Field Office and other BLM offices. This emergency travel limitation order supercedes the existing OHV travel designations for areas within the three WSAs that were put in place on September 25, 1980. The travel limitations apply to all motorized vehicle use with the exception of law enforcement and emergency personnel or administrative uses authorized by the BLM. The authority for this action is 43 CFR 8341.2(a). Violations of these travel limitations are punishable by a fine not to exceed $1,000 and/or imprisonment not to exceed 12 months.

DATES: The travel limitation order is effective immediately and will remain in effect until the threats to WSA impairment are eliminated or permanent OHV designations are effected through land use planning as identified in 43 CFR 8341.2(a). BLM will continue regular surveillance and monitoring to assess compliance with these travel restrictions. Should the emergency restrictions not result in prevention of adverse resource impacts, other management options will be implemented for motorized vehicle use in the WSAs such as limitations for seasonal use, restrictions on numbers and/or types of vehicles allowed, utilization of a permitting system, or complete closure of some or all routes to OHV use.

ADDRESSES: Copies or maps are available at the BLM Kanab Field Office, 318 North 100 East, Kanab Utah 84741, or on the Internet at http://www.blm.gov/utah/.

FOR FURTHER INFORMATION CONTACT: Verlin Smith, Field Manager, Bureau of Land Management, Kanab Field Office, 318 North, 100 East, Kanab, Utah 84741. Telephone: (435) 644-4600.

SUPPLEMENTARY INFORMATION: The three WSAs, Parunuweap Canyon (30,899 acres), Orderville Canyon (1,750 acres), and North Fork Virgin River (1,040 acres) were established in 1980 to review for possible wilderness designation. Under the BLM WSA Interim Management Policy (IMP), WSA lands are to be managed so as not to impair the suitability of those lands to be considered for designation as wilderness areas by Congress. An interdisciplinary (ID) team of specialists followed the IMP guidance and recent BLM Utah guidance (An Interim Management Approach to OHV Use on Public Lands in Utah, June 2000), to review the resource condition of the WSAs and possible threats or impacts to resources and wilderness values.

BLM determined that OHV use is increasing and some impacts are occurring in isolated areas of the Parunuweap WSA to riparian vegetation and some OHV use is occurring off existing inventoried routes in the Parunuweap WSA. BLM concluded that OHV travel limitations are necessary to prevent any future resource impacts from impairing wilderness values and allow existing impacts to rehabilitate naturally. If OHV use off existing routes continues to increase at the current rate observed, impairment to the Parunuweap WSA could result. OHV limitations in the Orderville Canyon and North Fork Virgin River WSAs would provide for compliance with BLM management policies outlined in the IMP and BLM Utah guidance and prevent future impacts from impairing wilderness values. Should the OHV travel limitations in any of the WSAs not be complied with and future impacts result that could impair wilderness values, BLM will implement additional management actions which could include additional OHV travel restrictions or closure to OHV use. Nothing in this order in any way alters legal rights which Kane County or the State of Utah may claim to assert as R.S. 2477 highways, and to challenge in Federal court or other appropriate venue, any BLM road closures that they believe are inconsistent with their claims.

Dated: August 22, 2000.
Douglas M. Koza,
Acting BLM State Director, Utah.

[FR Doc. 00-21869 Filed 8-28-00; 8:45 am]

BILLING CODE 4310-DQ-P